DEPARTMENT OF THE TREASURY

Alcohol and Tobacco Tax and Trade Bureau

Proposed Information Collection; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the information collection listed below in this notice.

DATES: We must receive your written comments on or before January 16, 2007.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please reference the information collection's title, form or recordkeeping requirement number, and OMB number (if any) in your comment. If you submit your comment via facsimile, send no more than five 8.5 × 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the information collection listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collection Open for Comment

Currently, we are seeking comments on the following information collections:

Title: Distilled Spirits Bond.

OMB Number: 1513-XXXX (To be assigned).

TTB Form Number: 5110.56.

Abstract: This form is used by Distilled Spirits Plants (DSPs) and Alcohol Fuel Plants to file bond coverage with TTB. Using this form, these plants may file coverage and/or withdrawal coverage for one plant or multiple plants. DSPs may file this bond and include operations coverage for adjacent wine cellars. The bond may be secured through a surety company or it may be secured with collateral (cash, Treasury Bonds or Treasury Notes). The bond protects the revenue assigned to distilled spirits on which excise tax has not been paid. Should the industry member fail to pay its tax liability, including any penalties and interest, TTB may obligate the funds used to secure the bond to satisfy the debt.

Current Actions: There are changes to this information collection and it is being submitted for approval.

Type of Review: Existing collection without an OMB control number.

Affected Public: Business or other for-profit, Farms.

Estimated Number of Respondents: 116.

Estimated Total Annual Burden Hours: 232.

Dated: November 8, 2006.
Francis W. Foote,
Director, Regulations and Rulings Division.

[FR Doc. E6-19237 Filed 11-14-06; 8:45 am]

BILLING CODE 4810-31-P